DEPARTMENT OF THE INTERIOR

National Park Service

Notice of Inventory Completion for Native American Human Remains and Associated Funerary Objects in the Possession of the U.S. Department of the Interior, National Park Service, Natchez Trace Parkway, Tupelo, MS

AGENCY: National Park Service, Interior.

ACTION: Notice.

Notice is hereby given in accordance with provisions of the Native American Graves Protection and Repatriation Act (NAGPRA), 43 CFR 10.9, of the completion of an inventory of human remains and associated funerary objects in the possession of the U.S. Department of the Interior, National Park Service, Natchez Trace Parkway, Tupelo, MS.

This notice is published as part of the National Park Service's administrative responsibilities under NAGPRA, 43 CFR 10.2 (c). The determinations within this notice are the sole responsibility of the National Park Service unit that has control or possession of these Native American human remains. The Assistant Director, Cultural Resources Stewardship and Partnerships is not responsible for the determinations within this notice.

A detailed assessment of the human remains was made by National Park Service professional staff in consultation with representatives of the Absentee-Shawnee Tribe of Indians of Oklahoma; Alabama-Coushatta Tribes of Texas; Alabama-Quassarte Tribal Town, Oklahoma; Cherokee Nation, Oklahoma; Chickasaw Nation, Oklahoma; Chitimacha Tribe of Louisiana; Choctaw Nation of Oklahoma; Eastern Band of Cherokee Indians of North Carolina; Eastern Shawnee Tribe of Oklahoma; Jena Band of Choctaw Indians, Louisiana; Kialegee Tribal Town, Oklahoma; Miccosukee Tribe of Indians of Florida; Mississippi Band of Choctaw Indians, Mississippi; Muskogee (Creek) Nation, Oklahoma; Poarch Band of Creek Indians of Alabama; Seminole Nation of Oklahoma; Seminole Tribe of Florida, Dania, Big Cypress, Brighton, Hollywood & Tampa Reservations; Thlopthlocco Tribal Town, Oklahoma; Tunica-Biloxi Indian Tribe of Louisiana; and United Keetoowah Band of Cherokee Indians of Oklahoma. The Shawnee Tribe, also known also as the “Loyal Shawnee” or “Cherokee Shawnee,” a nonfederally recognized Native American group at the time that they were consulted, has since been recognized as eligible for the special programs and services provided by the United States to Indians because of their status as Indians under provisions of P.L. 106-568.

In 1984 and 1985, human remains representing eight individuals were recovered from the Mayberry site during an authorized National Park Service contract with the University of Tennessee. No known individuals were identified. The eight associated funerary objects are four archeological field bags of limestone slab fragments believed to have been intentionally placed with the human remains to line the grave, three ceramic trowels, and one celt.

The Mayberry site is located in Hickman County, TN, on the southern river terrace of the Duck River. The human remains and associated funerary objects were excavated from five “box burials” and one bell-shaped burial discovered at the site. Box burials are characterized by placement of the flexed body into a limestone-, sandstone-, or pottery-lined pit. Artifacts associated with the human remains indicate that these individuals were buried during the Mississippian cultural period (A.D. 900-1650). The box burial practice was common in an area generally bounded by the Tennessee, Missouri, and Ohio Rivers. It appears to be most commonly practiced on the Cumberland Plateau, around Nashville, TN, during the Mississippian period. Box graves in this region are attributed to the Middle Cumberland Culture. Descendants of this prehistoric group have never been firmly established. One account of Delaware burial practice from the 18th century does closely match one burial from the Mayberry site. However, at the time of first sustained European contact in the 17th century, the tribes of the Delaware confederacy were located along the Atlantic slope in the present-day States of Pennsylvania, New Jersey, New York, and Delaware. Another early historic account links box burials with burial practices of the widespread Shawnee bands whose aboriginal range did extend into the area of the Mayberry site. The area is considered part of the traditional hunting lands of Cherokee and Chickasaw tribes, and -- according to Chickasaw representatives consulted on June 28, 2001 -- may have been part of the Chickasaw's traditional homelands during the Mississippian cultural period. The first documented long-term contact between Europeans and Native Americans in the area occurred around A.D. 1700 when a French trader, Charles Charleville, began trading with the Shawnee at French Lick in what is now Nashville, TN. The Mayberry site is located within the area ceded to the United States by the Cherokee on January 7, 1807, and by the Chickasaw on September 20, 1816.

Based on the above-mentioned information, the superintendent of Natchez Trace Parkway has determined that, pursuant to 43 CFR 10.2 (d)(1), the human remains listed above represent the physical remains of eight individuals of Native American ancestry. The superintendent of Natchez Trace Parkway also has determined that, pursuant to 43 CFR 10.2 (d)(2), the eight objects listed above are reasonably believed to have been placed with or near individual human remains at the time of death or later as part of a death rite or ceremony. Lastly, the superintendent of Natchez Trace Parkway has determined that, pursuant to 43 CFR 10.2 (e), there is a relationship of shared group identity that can be reasonably traced between these Native American human remains and associated funerary objects and the Absentee-Shawnee Tribe of Indians of Oklahoma; Eastern Shawnee Tribe of Oklahoma; Shawnee Tribe, Oklahoma, Cherokee Nation of Oklahoma; Eastern Band of Cherokee Indians of North Carolina; United Keetoowah Band of Cherokee Indians of Oklahoma; and the Chickasaw Nation.

This notice has been sent to officials of the Absentee-Shawnee Tribe of Indians of Oklahoma; Alabama and Coushatta Tribes of Texas; Alabama-Quassarte Tribal Town, Oklahoma; Cherokee Nation of Oklahoma; Chickasaw Nation, Oklahoma; Chitimacha Tribe of Louisiana; Choctaw Nation of Oklahoma; Delaware Tribe of Indians; Delaware Nation; Eastern Band of Cherokee Indians of North Carolina; Eastern Shawnee Tribe of Oklahoma; Jena Band of Choctaw Indians, Louisiana; Kialegee Tribal Town, Oklahoma; Miccosukee Tribe of Indians of Florida; Mississippi Band of Choctaw Indians, Mississippi; Muskogee (Creek) Nation, Oklahoma; Poarch Band of Creek Indians of Alabama; Seminole Nation of Oklahoma; Seminole Tribe of Florida, Dania, Big Cypress, Brighton, Hollywood & Tampa Reservations; Shawnee Tribe, Oklahoma; Stockbridge-Munsee Community of Mohican Indians of Wisconsin; Thlopthlocco Tribal Town, Oklahoma; Tunica-Biloxi Indian Tribe of Louisiana; and United Keetoowah Band of Cherokee Indians of Oklahoma. Representatives of any other Indian tribe that believes itself to be culturally affiliated with these human remains and associated funerary objects should contact Wendell Simpson, Superintendent, Natchez Trace Parkway, 2680 Natchez Trace Parkway, Tupelo, MS 38803, telephone (662) 680-4005, before February 7, 2002. Repatriation of the human remains and associated funerary objects to the Absentee-Shawnee Tribe of Indians of Oklahoma; Eastern Shawnee Tribe of Oklahoma; Shawnee Tribe, Oklahoma; Cherokee Nation of Oklahoma; Eastern Band of Cherokee Indians of North Carolina; United Keetoowah Band of Cherokee Indians of Oklahoma; and Chickasaw Nation may begin after that date if no additional claimants come forward.

Dated: October 19, 2001.
John Robbins,
Assistant Director, Cultural Resources Stewardship and Partnerships.

[FR Doc. 02-387 Filed 1-7-02; 8:45 am]

BILLING CODE 4310-70-S